DEPARTMENT OF ENERGY

Federal Energy Regulatory Commission

[Docket No. EC00-71-000, et al.]

Reliant Energy Northeast Generation, Inc., et al.; Electric Rate and Corporate Regulation Filings

April 7, 2000.

Take notice that the following filings have been made with the Commission:

1. Reliant Energy Northeast Generation, Inc.

[Docket No. EC00-71-000]

Take notice that on March 31, 2000, Reliant Energy Northeast Generation, Inc. (Applicant), an indirect, wholly-owned subsidiary of Reliant Energy, Inc., filed an application under Section 203 of the Federal Power Act for approval of a reorganization of certain public utility companies it expects to acquire and the subsequent sale and leaseback of certain jurisdictional transmission facilities associated with the Keystone, Conemaugh and Shawville Generating Facilities. The restructuring relates to the ownership of generating plants, associated transmission facilities and jurisdictional wholesale sale tariffs and agreements that the Applicant expects to acquire as part of its purchase of equity interests in Sithe Maryland Holdings LLC, Sithe Pennsylvania Holdings LLC and Sithe New Jersey Holdings LLC.

Comment date: May 1, 2000, in accordance with Standard Paragraph E at the end of this notice.

2. Nevada Power Company

[Docket No. ER00-2015-000]

Take notice that on March 31, 2000, Nevada Power Company (Nevada Power) tendered for filing pursuant to Section 205 of the Federal Power Act, twelve rate schedules applicable to sales from the six bundles of generation facilities that Nevada Power intends to divest. The twelve rate schedules consist of six amended Generation Aggregation Tariffs and six Transition Power Purchase Contracts that will apply to sales from the divested generation to Nevada Power so that Nevada Power may meet its provider of last resort, wholesale requirements, and ancillary services obligations.

Comment date: April 21, 2000, in accordance with Standard Paragraph E at the end of this notice.

3. Central Maine Power Company

[Docket No. ER00-2017-000]

Take notice that on March 31, 2000, Central Maine Power Company (CMP), tendered for filing as an initial rate schedule pursuant to Section 35.12 of the Federal Energy Regulatory Commission's regulations, 18 CFR 35.12, (i) unexecuted Interconnection Agreements, dated as of March 1, 2000 (the IAs); and (ii) unexecuted service agreement for Non-Firm Local Point-to-Point Transmission Service, dated as of March 1, 2000 (the TSAs), for the following customers:

(1) City of Lewiston;

(2) Foss Mill;

(3) Kennebec Water District;

(4) Forester Manufacturing Company;

(5) Marsh Stream;

(6) Marsh Power;

(7) Moosehead Energy Inc.;

(8) Stony Brook;

(9) Wright Brook; and

(10) Sparhawk Mill.

The IA is CMP's standard form IA for customers whose facilities have a nameplate rating of less than 2,500 kW, do not require construction to effectuate or maintain their interconnection, and, per the New England Independent System Operator, do not require remote terminal units. The IA provides for interconnection service to the customers' facilities at the rates, terms, charges, and conditions set forth therein. The TSA provides for Non-Firm Point-to-Point Transmission Service.

CMP is requesting that the IAs become effective March 1, 2000; and the TSAs become effective March 1, 2000.

Copies of this filing have been served upon the Maine Public Utilities Commission and copies of this filing (specific to the particular customer only) have been sent to the customers listed above.

Comment date: April 21, 2000, in accordance with Standard Paragraph E at the end of this notice.

4. Sierra Pacific Power Company

[Docket No. ER00-2018-000]

Take notice that on March 31, 2000, Sierra Pacific Power Company (Sierra ) tendered for filing pursuant to Section 205 of the Federal Power Act, six rate schedules applicable to sales from the three bundles of generation facilities that Sierra intends to divest. The six rate schedules consist of three generally applicable Generation Tariffs and three Transition Power Purchase Contracts that will apply to sales from the divested generation to Sierra so that Sierra may meet its provider of last resort, wholesale requirements, and ancillary services obligations.

Comment date: April 21, 2000, in accordance with Standard Paragraph E at the end of this notice.

5. California Independent System Operator Corporation

[Docket No. ER00-2019-000]

Take notice that on March 31, 2000, the California Independent System Operator Corporation (ISO) tendered for filing a proposed amendment (Amendment No. 27) to the ISO Tariff. Amendment No. 27 includes proposed Tariff revisions implementing a revised methodology for recovery of the transmission Access Charge.

Copies of the filing were served upon the Public Utilities Commission of the State of California, the California Energy Commission, and the California Electricity Oversight Board, and all parties with effective Scheduling Coordinator Agreements under the ISO Tariff.

Comment date: April 21, 2000, in accordance with Standard Paragraph E at the end of this notice.

6. Central Maine Power Company

[Docket No. ER00-2020-000]

Take notice that on March 31, 2000, Central Maine Power Company (CMP), tendered for filing as an initial rate schedule pursuant to Section 35.12 of the Federal Energy Regulatory Commission's regulations, 18 CFR 35.12, (i) an unexecuted Interconnection Agreements, dated as of March 1, 2000 (the IA); and (ii) an unexecuted service agreement for Non-Firm Local Point-to-Point Transmission Service, dated as of March 1, 2000 (the TSA), for International Paper Company.

The IA provides for interconnection service to the customers' facilities at the rates, terms, charges, and conditions set forth therein. The TSA provides for Non-Firm Point-to-Point Transmission Service.

CMP is requesting that the IA become effective March 1, 2000; and the TSA become effective March 1, 2000.

Copies of this filing have been served upon the Maine Public Utilities Commission and International Paper Company, c/o Anthony Buxton, its outside counsel.

Comment date: April 21, 2000, in accordance with Standard Paragraph E at the end of this notice.

7. New England Power Pool

[Docket No. ER00-2059-000]

Take notice that on March 31, 2000, the New England Power Pool (NEPOOL) Participants Committee filed for acceptance a signature page to the New England Power Pool Agreement dated September 1, 1971, as amended, signed by Associated Industries of Massachusetts (AIM). The NEPOOL Agreement has been designated NEPOOL FPC No. 2.

The Participants Committee states that the Commission's acceptance of AIM's signature page would permit NEPOOL to expand its membership to include AIM. The Participants Committee further states that the filed signature page does not change the NEPOOL Agreement in any manner, other than to make AIM a member in NEPOOL.

The Participants Committee requests an effective date of April 1, 2000, for commencement of participation in NEPOOL by AIM.

Comment date: April 21, 2000, in accordance with Standard Paragraph E at the end of this notice.

8. Central Maine Power Company

[Docket No. ER00-2061-000]

Take notice that on March 31, 2000, Central Maine Power Company (CMP) tendered for filing “Unexecuted Service Agreements For Local Network Transmission Service” and “Unexecuted Local Network Operating Agreements”. CMP states the instant filing is contemplated as part of the State of Maine's restructuring of the electric utility industry.

CMP requests the Commission allow these Agreements to be deemed effective on March 1, 2000 in order to coincide with the commencement of retail access in the State of Maine.

Comment date: April 21, 2000, in accordance with Standard Paragraph E at the end of this notice.

9. Illinois Power Company

[Docket No. ER00-2064-000]

Take notice that, on March 31, 2000, Illinois Power Company (Illinois Power), 500 South 27th Street, Decatur, Illinois 62521, tendered for filing an unexecuted Service Agreement for Network Integration Transmission Service and an unexecuted Network Operating Agreement under which Illinois Municipal Electric Agency will take transmission service pursuant to Illinois Power's open access transmission tariff (OATT). The agreements are based on forms of agreements in Illinois Power's OATT.

Illinois Power has requested an effective date of March 1, 2000.

Comment date: April 21, 2000, in accordance with Standard Paragraph E at the end of this notice.

10. Boston Edison Company

[Docket No. ER00-2065-000]

Take notice that on March 31, 2000, Boston Edison Company (BECo) tendered for filing an amendment to its Open Access Transmission Tariff (Tariff), which modifies the billing and payment provisions of the Tariff to allow BECo to recover its transmission costs on a more timely basis.

Comment date: April 21, 2000, in accordance with Standard Paragraph E at the end of this notice.

11. Pacific Gas and Electric Company

[Docket No. ER00-2075-000]

Take notice that on March 31, 2000, Pacific Gas and Electric Company (PG&E) tendered for filing changes to rate schedules for electric transmission service to the following customers: Bay Area Rapid Transit District, California Department of Water Resources, Dynegy Power Services, Minnesota Methane, Modesto Irrigation District, Northern California Power Agency, Sacramento Municipal Utility District, the City and County of San Francisco, California, the City of Santa Clara, California (also known as Silicon Valley Power), the Transmission Agency of Northern California, Turlock Irrigation District and the Western Area Power Administration with services under Contract 2948A rate schedules A and B for the Sonoma County Water Agency, the Cities of Healdsburg, Lompoc and Ukiah and the Delta Pumping Plant. The changes include a change in the existing wholesale transmission rate methodologies and a rate change to reflect the current cost of providing service to the foregoing customers.

Copies of this filing have been served upon the California Public Utilities Commission and the affected customers.

Comment date: April 21, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-9302 Filed 4-14-00; 8:45 am]

BILLING CODE 6717-01-P